COMMITTEE FOR PURCHASE FROM PEOPLE WHO ARE BLIND OR SEVERELY DISABLED

Procurement List; Proposed Additions

AGENCY: Committee For Purchase From People Who Are Blind or Severely Disabled.

ACTION: Proposed additions to procurement list.

SUMMARY: The Committee is proposing to add to the Procurement List products and a service to be furnished by nonprofit agencies employing persons who are blind or have other severe disabilities.

Comments Must Be Received On Or Before: April 17, 2005.

ADDRESSES: Committee for Purchase From People Who Are Blind or Severely Disabled, Jefferson Plaza 2, Suite 10800, 1421 Jefferson Davis Highway, Arlington, Virginia, 22202-3259.

For Further Information Or To Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions. If the Committee approves the proposed additions, the entities of the Federal Government identified in the notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

Product/NSN: Antifoam Compound, Silicon, 6850-01-506-6533.

Product/NSN: Detergent, Laundry, 7930-01-506-7081.

NPA: East Texas Lighthouse for the Blind, Tyler, Texas.

Contracting Activity: Defense Supply Center Philadelphia, Philadelphia, Pennsylvania.

Product/NSN: Gloves, Flyers', Summer, Type GS/FRP-2; GS/FPP-2 (Exigency or surge requirements up to 240,000 pairs annually which are over and above the current contractors' requirements for a period up to September 2007.

8415-01-029-0109—Type GS/FRP-2, Sage Green—Size 7

8415-01-029-0111—Type GS/FRP-2, Sage Green—Size 8

8415-01-029-0112—Type GS/FRP-2, Sage Green—Size 9

8415-01-029-0113—Type GS/FRP-2, Sage Green—Size 10

8415-01-029-0116—Type GS/FRP-2, Sage Green—Size 11

8415-01-040-1453—Type GS/FRP-2, Sage Green—Size 6

8415-01-040-2012—Type GS/FRP-2, Sage Green—Size 5

8415-01-461-4920—Type GS/FPP-2, Desert Tan—Size 5

8415-01-461-4922—Type GS/FPP-2, Desert Tan—Size 6

8415-01-461-4924—Type GS/FPP-2, Desert Tan—Size 7

8415-01-461-4932—Type GS/FPP-2, Desert Tan—Size 8

8415-01-461-4934—Type GS/FPP-2, Desert Tan—Size 9

8415-01-461-4940—Type GS/FPP-2, Desert Tan—Size 10

8415-01-461-4942—Type GS/FPP-2, Desert Tan—Size 11

8415-01-461-4962—Type GS/FRP-2, Black—Size 5

8415-01-461-4964—Type GS/FRP-2, Black—Size 6

8415-01-461-4966—Type GS/FRP-2, Black—Size 7

8415-01-461-4969—Type GS/FRP-2, Black—Size 8

8415-01-461-4970—Type GS/FRP-2, Black—Size 9

8415-01-461-4971—Type GS/FRP-2, Black—Size 10

8415-01-461-4981—Type GS/FRP-2, Black—Size 11

8415-01-482-8417—Type GS/FRP-2, Sage Green—Size 4

8415-01-482-8420—Type GS/FRP-2, Sage Green—Size 12

8415-01-482-8678—Type GS/FRP-2, Black—Size 4

8415-01-482-8684—Type GS/FRP-2, Black—Size 12

8415-01-482-8688—Type GS/FPP-2, Desert Tan—Size 4

8415-01-482-8690—Type GS/FPP-2, Desert Tan—Size 12

NPA: South Texas Lighthouse for the Blind, Corpus Christi, Texas.

Contracting Activity: Defense Supply Center Philadelphia, Philadelphia, Pennsylvania.

Product/NSN: Marker, Dry Erase, 7520-01-294-3791 (Black, Chisel Tip).

NPA: Dallas Lighthouse for the Blind, Inc., Dallas, Texas.

Contracting Activity: Office Supplies & Paper Products Acquisition Center, New York, NY.

Service

Service Type/Location: Document Destruction, USDA, Forest Service, 101 B Sun Avenue, NE., Albuquerque, New Mexico.

NPA: Adelante Development Center, Inc., Albuquerque, New Mexico.

Contracting Activity: USDA, Forest Service, Albuquerque, New Mexico.

Sheryl D. Kennerly,
Director, Information Management.

[FR Doc. E5-1192 Filed 3-17-05; 8:45 am]

BILLING CODE 6353-01-P